DEPARTMENT OF THE INTERIOR

Fish and Wildlife Service

[FWS-R7-ES-2020-N109; FXES11140700000-201-FF07CAFB00]

Endangered and Threatened Wildlife and Plants; Draft Recovery Plan for the Alaska-Breeding Population of Steller's Eider, First Revision

AGENCY: Fish and Wildlife Service, Interior.

ACTION: Notice of availability and request for public comment.

SUMMARY: We, the U.S. Fish and Wildlife Service, announce the availability of the draft first revision of the recovery plan for the threatened Alaska-breeding population of Steller's eiders (Polysticta stelleri). We request review and comment on the revised plan from local, State and Federal agencies, Tribes, and the public. We will also accept any new information on the status of the Alaska-breeding population of Steller's eiders throughout its range to assist in finalizing the recovery plan.

DATES: Comment submission: To ensure consideration, we must receive written comments on or before August 23, 2021. However, we will accept information about the species at any time.

ADDRESSES: Document availability: You may obtain a copy of the draft recovery plan by one of the following methods:

• Internet: Download the document at https://www.fws.gov/alaska/pages/endangered-species/stellers-eider.

• U.S. Mail: U.S. Fish and Wildlife Service; Attention: Neesha Stellrecht, Fairbanks Fish and Wildlife Field Office; 101 12th Ave.; Fairbanks, AK 99701.

• Telephone: Neesha Stellrecht, 907-456-0297.

Comment submission: You may submit comments by one of the following methods:

• Mail or hand delivery: Submit written comments to the above U.S. mail address.

• Email: neesha_stellrecht@fws.gov. Please include “Steller's eider recovery plan” in the subject line.

For additional information about submitting comments, see Availability of Public Comments in SUPPLEMENTARY INFORMATION.

FOR FURTHER INFORMATION CONTACT: Neesha Stellrecht, by one of the methods in ADDRESSES. Individuals who are hearing impaired or speech impaired may call the Federal Relay Service at 800-877-8339 for TTY assistance.

SUPPLEMENTARY INFORMATION: We, the U.S. Fish and Wildlife Service (Service), announce the availability of the draft recovery plan, first revision (draft plan), for the threatened Alaska-breeding population of Steller's eiders for public review and comment. The original recovery plan for this population was approved in 2002. The draft revised plan, when finalized, would replace the 2002 version. The draft plan includes objective, measurable criteria and recovery actions as may be necessary for removal of the species from the Federal List of Endangered and Threatened Wildlife. We request review and comment on the draft plan from local, State, and Federal agencies, and the public.

Recovery Planning

Section 4(f) of the Endangered Species Act (Act) of 1973, as amended (Act; 16 U.S.C. 1531 et seq.), requires the development of recovery plans for listed species, unless such a plan would not promote the conservation of a particular species. Also pursuant to section 4(f) of the Act, a recovery plan must, to the maximum extent practicable, include (1) a description of site-specific management actions as may be necessary to achieve the plan's goals for the conservation and survival of the species; (2) objective, measurable criteria that, when met, would support a determination under section 4(a)(1) that the species should be removed from the List of Endangered and Threatened Species; and (3) estimates of the time and costs required to carry out those measures needed to achieve the plan's goal and to achieve intermediate steps toward that goal.

The Service has revised its approach to recovery planning. The revised process is intended to reduce the time needed to develop and implement recovery plans, increase recovery plan relevancy over a longer timeframe, and add flexibility to recovery plans so they can be adjusted to new information or circumstances. A recovery plan will include statutorily required elements (objective, measurable criteria; site-specific management actions; and, estimates of time and costs), along with a concise introduction and our strategy for how we plan to achieve species recovery. The recovery plan is supported by a separate Species Status Assessment. The essential component to flexible implementation under this recovery process is producing a separate working document called the Recovery Implementation Strategy (implementation strategy). The implementation strategy steps down from the more general description of actions in the recovery plan to detail the specific, near-term activities needed to implement the recovery plan. The implementation strategy will be adaptable by being able to incorporate new information without having to concurrently revise the recovery plan, unless changes to statutory elements are required. The implementation strategy will be developed following publication of the final recovery plan and will be made available on the Service's website at that time.

Species Background

The Alaska-breeding population of Steller's eider (Polysticta stelleri), a small sea duck, was listed as a threatened distinct population segment under the Act in 1997 (62 FR 31748) due to the contraction of its breeding range in Alaska. Steller's eiders spend the majority of their lives in the marine environment, occupying terrestrial habitats only during the nesting season, which occurs from approximately early June to early September. Nesting in Alaska is concentrated in tundra wetland habitat near Utqiaġvik, and occurs at lower densities elsewhere on Alaska's Arctic Coastal Plain. Alaska-breeding Steller's eiders molt and winter in the southern Bering Sea and northern Pacific Ocean, where they intermix with Russia-breeding Steller's eiders. Combined, these two breeding populations comprise the Pacific-wintering population of Steller's eiders. Considerable uncertainty about the drivers of population growth and the factors inhibiting recovery of the Alaska-breeding population exists; however, known threats include ingestion of lead ammunition, shooting, collisions with human-built structures, human disturbance in nesting areas, nest predation, and changes to the ecological community in the nesting area (e.g., less extreme cycles of lemming abundance). Refer to the Species Status Assessment Report (USFWS 2019) for a full discussion of the population's biology and threats.

Draft Recovery Plan

Recovery Criteria

The ultimate recovery goal is to remove the Alaska-breeding population of Steller's eiders from the Federal List of Endangered and Threatened Wildlife (delist) by ensuring the long-term viability of the population in the wild. In the draft plan, we have identified the following two recovery criteria alternatives, based on the best available information about the species.

1. If the abundance of the Pacific-wintering population is known to be increasing or stable, over 20 years the number of Steller's eiders must be ≥50, 200, and 100, near Utqiaġvik, in the Utqiaġvik Triangle, and in the Arctic Coastal Plain study areas, respectively, or the total number of Steller's eiders breeding in Alaska must be ≥350, with a wide enough distribution to ensure adequate redundancy and representation; or

2. If the trend of the Pacific-wintering population is unknown or decreasing, over 20 years the number of Steller's eiders breeding in Alaska must be ≥75, 300, and 150, near Utqiaġvik, in the Utqiaġvik triangle, and in the Arctic Coastal Plain study areas, respectively, or the total number of Steller's eiders breeding in Alaska must be ≥525, with a wide enough distribution to ensure adequate redundancy and representation.

Additionally, threats including (but not limited to) ingestion of lead ammunition, mortality from shooting, collisions with structures, human disturbance in the breeding area, nest predation, and changes to the ecological community must be found to not affect the ability of the population to meet and maintain the demographic criteria above.

Recovery Strategy

To achieve the recovery criteria, the recovery strategy for Alaska-breeding Steller's eiders includes working with Federal agencies and other partners to improve survival and reproductive rates by eliminating known threats such as lead contamination, shooting, collisions, and disturbance, and protect both breeding and non-breeding habitats. Considerable uncertainty about the ecology, population dynamics, and constraints to population growth remains; therefore, a number of recovery actions are focused on monitoring population size and continuing research to improve our understanding of Steller's eider ecology, threats, and efficacy of management actions.

Availability of Public Comments

Before including your address, phone number, email address, or other personal identifying information in your comment, you should be aware that your entire comment—including your personal identifying information—may be made publicly available at any time. While you can ask us in your comment to withhold your personal identifying information from public review, we cannot guarantee that we will be able to do so.

Authority

The authority for this action is section 4(f) of the Endangered Species Act of 1973, as amended (16 U.S.C. 1531 et seq.).

Gregory Siekaniec,
Regional Director, Alaska Region.

[FR Doc. 2021-13153 Filed 6-22-21; 8:45 am]

BILLING CODE 4333-15-P